FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 1, 2017.

A. Federal Reserve Bank of Chicago (Colette A. Fried, Assistant Vice President) 230 South LaSalle Street, Chicago, Illinois 60690-1414:

1. Nathan Halverson, Mason City, Iowa; individually and as co-trustee of the Richard A. Halverson Disclaimer Trust, and as a group acting in concert with Kelli Halverson, Scottsdale, Arizona, and the Richard A. Halverson Disclaimer Trust, Mason City, Iowa, co-trustees Richard A. Halverson and Nathan Halverson, both of Mason City, Iowa; to join Richard A. Halverson as members of the Halverson Family Control Group; to retain voting shares of Farmers State Bancshares, Inc., Mason City, Iowa, and thereby indirectly retain shares of Farmers State Bank, Northwood, Iowa.

Board of Governors of the Federal Reserve System, October 11, 2017.
Ann Misback,
Secretary of the Board.

[FR Doc. 2017-22353 Filed 10-13-17; 8:45 am]

BILLING CODE P